DEPARTMENT OF ENERGY

Federal Energy Regulatory Commission

[Docket No. AC03-58-000, et al.]

AEP Texas North Company, et al.; Electric Rate and Corporate Filings

July 25, 2003.

The following filings have been made with the Commission. The filings are listed in ascending order within each docket classification.

1. AEP Texas North Company, Appalachian Power Company, Columbus Southern Power Company, Ohio Power Company, Southwestern Electric Power Company

[Docket No. AC03-58-000]

Take notice that on July 17, 2003, the AEP Texas North Company, Appalachian Power Company, Columbus Southern Power Company, Ohio Power Company and Southwestern Electric Power Company (the Companies) made a compliance filing pursuant to the accounting and reporting requirements set forth by the Commission in Order 631, Accounting, Financial Reporting, and Rate Filing Requirements for Asset Retirement Obligations. The Commission directed jurisdictional entities to file journal entries and supporting information for any adjustments made that affect net income as a result of implementing the accounting rules contained in Order 631.

Comment Date: August 7, 2003.

2. Armstrong Energy Limited Partnership, LLLP and Dominion Energy Marketing, Inc.

[Docket No. EC03-108-000]

Take notice that on July 18, 2003, Armstrong Energy Limited Partnership, LLLP (Armstrong) and Dominion Energy Marketing, Inc. (DEMI) filed an application for an order authorizing the proposed transfer of Armstrong's interest in a Master Power Purchase & Sale Agreement and the underlying Confirmation Letter with Constellation Power Source, Inc. to its affiliate, DEMI.

Comment Date: August 8, 2003.

3. Dominion Nuclear Marketing II, Inc. and Dominion Energy Marketing, Inc.

[Docket No. EC03-109-000]

Take notice that on July 18, 2003, Dominion Nuclear Marketing II, Inc. (DNM II) and Dominion Energy Marketing, Inc. (DEMI) filed an application for an order authorizing the proposed transfer of DNM II's interest in certain wholesale contracts with Constellation Power Source, Inc. to its affiliate, DEMI.

Comment Date: August 8, 2003.

4. Texas-New Mexico Power Company and Southern New Mexico Electric Company

[Docket No. EC03-110-000]

Take notice that on July 21, 2003,Texas-New Mexico Power Company and Southern New Mexico Electric Company (Applicants) filed with the Federal Energy Regulatory Commission (Commission) an application pursuant to section 203 of the Federal Power Act for authorization of a disposition of jurisdictional facilities whereby Texas-New Mexico Power Company proposes to completely dispose of its jurisdictional facilities in New Mexico to Southern New Mexico Electric Company, a wholly owned subsidiary of Texas-New Mexico Power Company.

Comment Date: August 11, 2003.

5. Liberty Electric Power, LLC, Newco, LLC

[Docket Nos. EC03-111-000 and ER01-2398-005]

Take notice that on July 21, 2003, Newco, LLC (Applicant) filed with the Federal Energy Regulatory Commission (Commission) an application pursuant to Section 203 of the Federal Power Act and notice of change in status with respect to the transfer of 100 percent of the indirect upstream membership interests in Liberty Electric Power, LLC (Project Company) to Applicant, a newly created special purpose entity owned by a group of financial institutions. The Project Company owns a 567.7 MW combined cycle gas-fueled electric generating plant located in the Borough of Eddystone, Delaware County, Pennsylvania.

Comment Date: August 11, 2003.

6. Xcel Energy Inc. and NRG Energy, Inc., and its Public Utility Subsidiaries

[Docket No. EC03-112-000]

Take notice that on July 22, 2003, Xcel Energy Inc. (Xcel Energy) and NRG Energy, Inc. (on its behalf and behalf of its jurisdictional subsidiaries) (NRG) (collectively, Applicants) filed with the Federal Energy Regulatory Commission (Commission), an application pursuant to sections 203 and 204 of the Federal Power Act for authorization of a disposition of jurisdictional facilities whereby Xcel Energy would dispose of its entire equity interest in NRG by implementing a proposed plan of reorganization (Reorganization Plan) filed in the bankruptcy proceedings in the United States Bankruptcy Court for the Southern District of New York (Bankruptcy Court). Under the proposed Reorganization Plan, NRG's Creditors would acquire the equity interest in NRG, and Xcel Energy would make payments to NRG and its Creditors of up to $752 million. Upon implementation of the Reorganization Plan, Xcel Energy's common equity interests in NRG and its public utility subsidiaries would be cancelled.

Comment Date: August 25, 2003.

7. Central Vermont Public Service Corporation and Green Mountain Power Corporation

[Docket No. EC03-113-000]

Take notice that on July 22, 2003, Central Vermont Public Service Corporation (Central Vermont) and Green Mountain Power Corporation (Green Mountain) filed with the Federal Energy Regulatory Commission (Commission), an application pursuant to Section 203 of the Federal Power Act for authorization to purchase certain shares of non-voting Class C Common Stock ($100 par value) issued by the Vermont Electric Power Company, Inc. (VELCO). The Vermont Public Service Board states that it has previously approved the issuance of the stock by VELCO. Central Vermont and Green Mountain request expedited approval to permit the rationalization of ownership of VELCO consistent with usage of the system and to allow VELCO to obtain needed capital for its operations.

Central Vermont and Green Mountain state that copies of the filing were served upon the Vermont Public Service Board and the Vermont Department of Public Service.

Comment Date: August 12, 2003.

8. Otter Tail Power Company

[Docket No. ER03-1097-000]

Take notice that on July 21, 2003, Otter Tail Power Company (Otter Tail) filed a Collector System and Substation Works Agreement by and between FPL Energy North Dakota Wind, LLC and Otter Tail (Agreement). Otter Tail requests an effective date of April 1, 2003 for the Agreement.

Comment Date: August 11, 2003.

9. Delmarva Power & Light Company

[Docket No. ER03-1098-000]

Take notice that on July 21, 2003, Delmarva Power & Light Company (Delmarva) tendered for filing revised rate schedule sheets (Revised Sheets) in its Second Revised Rate Schedule FERC No. 111 between Delmarva and the Town of Middletown, Delaware (Middletown). Delmarva states that the Revised Sheets reflect a new effective date commensurate with the commercial operations date of Middletown's recently constructed substation and associated facilities.

Delmarva requests that the Commission allow the Revised Sheets to become effective on June 24, 2003, the commercial operations date of Middletown's substation and associated facilities.

Delmarva states that copies of the filing were served upon Middletown and the Delaware Public Service Commission.

Comment Date: August 11, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-19679 Filed 8-1-03; 8:45 am]

BILLING CODE 6717-01-P